DEPARTMENT OF HEALTH AND HUMAN SERVICES

Privacy Act of 1974; Matching Program

AGENCY: Administration for Children and Families, Department of Health and Human Services.

ACTION: Notice of a new matching program.

SUMMARY: In accordance with subsection (e)(12) of the Privacy Act of 1974, as amended, the Department of Health and Human Services, Administration for Children and Families, Office of Planning, Research and Evaluation (HHS/ACF/OPRE), is providing notice of a re-established matching program between the Department of Veterans Affairs (VA) and State Public Assistance Agencies (SPAAs), “Information Comparisons and Disclosure to Assist in Administering the Public Assistance Reporting Information System (PARIS) Program.” The matching program provides VA pay and pension data to SPAAs, which SPAAs use to identify individual public assistance clients (applicants and recipients) who are receiving compensation and pension payments from VA, in order to determine their eligibility for benefits under HHS' Medicaid and Temporary Assistance to Needy Families (TANF) programs and the Department of Agriculture's Supplemental Nutrition Assistance Program (SNAP). HHS/ACF/OPRE facilitates the matching program, with computer assistance from the Department of Defense, Defense Manpower Data Center (DOD/DMDC).

DATES: The deadline for comments on this notice is February 28, 2018. The re-established matching program will commence not sooner than 30 days after publication of this notice, provided no comments are received that warrant a change to this notice. The matching program will be conducted for an initial term of 18 months (approximately February 25, 2018 through July 25, 2019) and within 3 months of expiration may be renewed for one additional year if the parties make no change to the matching program and certify that the program has been conducted in compliance with the matching agreement.

ADDRESSES: Interested parties may submit written comments on this notice, by mail or email, to the Director, Division of Data and Improvement, HHS/ACF Office of Planning, Research and Evaluation, 330 C Street SW, Washington, DC 20024, thomas.miller@acf.hhs.gov.

FOR FURTHER INFORMATION CONTACT: General questions about the matching program may be submitted to the Director, Division of Data and Improvement, HHS/ACF Office of Planning, Research and Evaluation, 330 C Street SW, Washington, DC 20024. Telephone: (202) 401-7237.

SUPPLEMENTARY INFORMATION: The Privacy Act of 1974, as amended (5 U.S.C. 552a), provides certain protections for individuals applying for and receiving federal benefits. The law governs the use of computer matching by federal agencies when records in a system of records (meaning, federal agency records about individuals retrieved by name or other personal identifier) are matched with records of other federal or non-federal agencies. The Privacy Act requires agencies involved in a matching program to:

1. Enter into a written agreement, which must be prepared in accordance with the Privacy Act, approved by the Data Integrity Board of each source and recipient federal agency, provided to Congress and the Office of Management and Budget (OMB), and made available to the public, as required by 5 U.S.C. 552a(o), (u)(3)(A), and (u)(4).

2. Notify the individuals whose information will be used in the matching program that the information they provide is subject to verification through matching, as required by 5 U.S.C. 552a(o)(1)(D).

3. Verify match findings before suspending, terminating, reducing, or making a final denial of an individual's benefits or payments or taking other adverse action against the individual, as required by 5 U.S.C. 552a(p).

4. Report the matching program to Congress and the OMB, in advance and annually, as required by 5 U.S.C. 552a(o) (2)(A)(i), (r), and (u)(3)(D).

5. Publish advance notice of the matching program in the Federal Register as required by 5 U.S.C. 552a(e)(12).

This matching program meets these requirements.

Participating Agencies: Department of Veterans Affairs (VA) is the source agency, and State Public Assistance Agencies (SPAAs) are recipient agencies. The Department of Health and Human Services, Administration for Children and Families, Office of Planning, Research and Evaluation (HHS/ACF/OPRE) facilitates the matching program, with computer assistance from the Department of Defense, Defense Manpower Data Center (DOD/DMDC).

Authority for Conducting the Matching Program: Sections 402, 1137, and 1903(r) of the Social Security Act (42 U.S.C. 602(a), 1320b-7, and 1396b(r)).

Purpose(s): The purpose of the matching program is to provide SPAAs with VA compensation and pension data on a periodic (typically quarterly) basis to use in determining public assistance applicants' and recipients' eligibility for benefits under HHS' Medicaid and Temporary Assistance to Needy Families (TANF) programs and the Department of Agriculture's Supplemental Nutrition Assistance Program (SNAP). The matching program helps ensure fair and equitable treatment in the delivery of benefits attributable to funds provided by the federal government.

Categories of Individuals: The categories of individuals whose information is involved in the matching program are:

• Individuals who apply for or receive Medicaid, TANF, SNAP and/or general assistance benefits; and

• Eligible veterans receiving VA pay or pension benefits.

Categories of Records: The categories of records involved in the matching program are VA pay and pension benefit records. The matching program will compare Social Security Numbers (SSNs) in quarterly SPAA files about individuals applying for Medicaid, TANF, SNAP and/or general assistance benefits to VA files containing names and other identifying information about eligible veterans receiving VA pay or pension benefits. The data elements that will be provided to a SPAA about a veteran whose SSN matches an SSN in a quarterly SPAA file include (as applicable):

VA File Number; Veteran/Beneficiary/Apportionee SSN and SSN Verification Indicator; Payee Type Code; Award Type, Award Line Type, and Award Status Codes; Gender Code; Last Name/First Name/Middle Name; Beneficiary Birth Date; Veteran/Spouse Aid and Attendance Code; Station Number; Spouse; Minor Child; School Child; Helpless Child; Parent; Combined Degree; Entitlement Type Code; Change Reason; Suspense Reason; Last Paid Date; Effective Date; Gross Amount; Net Award Amount; Payment Amount; Frequency Pay Type Code; Income for VA Purposes Amount; Beneficiary/Spouse Annual Amounts (for Wages, Insurance, Interest, Social Security, Civil Service Retirement, Military, Railroad Retirement Board, Black Lung, and Rest); Beneficiary/Spouse Rest of Exclusion Amount; Medical Expense/Education Expense/Last Expense/Hardship Amounts; Receivable/Receivable Amount; Monthly Deductions/Deduction Amount; Proceeds/Proceeds Amount; Address Type Indicator; Address Name/Fiduciary; Address Fiduciary Type; Address Name Beneficiary; and Corporate Format Address (Address Lines One, Two, and Three, City Name, State Name, ZIP Code Prefix and Suffix, Country Type Name, Foreign Postal Code, Province Name, Territory Name, Military Postal Type, Military Post Office).

System(s) of Records: The VA pay and pension records used in this matching program will be disclosed from the following system of records, as authorized by routine use 25: Compensation, Pension, Education, and Vocational Rehabilitation and Employment Records-VA (58VA21/22/28), last published at 77 FR 42593 (July 19, 2012).

Naomi Goldstein,
Deputy Assistant Secretary for Planning, Research and Evaluation, ACF.

[FR Doc. 2018-01627 Filed 1-26-18; 8:45 am]

BILLING CODE 4184-01-P